DEPARTMENT OF JUSTICE

Antitrust Division

Notice Pursuant to the National Cooperative Research and Production Act of 1993—Joint Venture To Perform Project Entitled Robotic Rehabilitation of Aging Water Pipelines

Notice is hereby given that, on February 3, 2010, pursuant to Section 6(a) of the National Cooperative Research and Production Act of 1993, 15 U.S.C. 4301 et sect. (“the Act”), Joint Venture to Perform Project Entitled Robotic Rehabilitation of Aging Water Pipelines (“Robotic Rehabilitation of Aging Water Pipelines”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Fibrwrap Construction, Inc., Ontario, CA; Fyfe Company, LLC, San Diego, CA; and the University of California-Irvine, Irvine, CA. The general area of Robotic Rehabilitation of Aging Water Pipelines's planned activity is to develop a prototype robot to apply high-performance, low-cost carbon fiber reinforcement inside water transmission pipes, allowing trenchless repair and rehabilitation of aging pipelines.

Patricia A. Brink,
Deputy Director of Operations Antitrust Division.

[FR Doc. 2010-6274 Filed 3-23-10; 8:45 am]

BILLING CODE M